SECURITIES AND EXCHANGE COMMISSION

[Release No. 35-27565]

Filings Under the Public Utility Holding Company Act of 1935, as Amended (“Act”)

September 4, 2002.

Notice is hereby given that the following filing has been made with the Commission pursuant to provisions of the Act and rules promulgated under the Act. All interested persons are referred to the application/declaration for a complete statements of the proposed transaction summarized below. The application/declaration is available for public inspection through the Commission's Branch of Public Reference.

Interested persons wishing to comment or request a hearing on the application/declaration should submit their views in writing by September 30, 2002, to the Secretary, Securities and Exchange Commission, Washington, DC 20549-0609, and serve a copy on the relevant applicant/declarant at the address specified below. Proof of service (by affidavit or, in the case of an attorney at law, by certificate) should be filed with the request. Any request for hearing should identify specifically the issues of facts or law that are disputed. A person who so requests will be notified of any hearing, if ordered, and will receive a copy of any notice or order issued in the matter. After September 30, 2002, the application/declaration, as filed or as amended, may be granted and/or permitted to become effective.

Entergy Mississippi, Inc. (70-9757)

Entergy Mississippi, Inc. (“EMI”), 308 East Pearl Street, Jackson, Mississippi, an electric public-utility subsidiary company of Entergy Corporation (“Entergy”), a registered holding company, has filed with this Commission a post-effective amendment to its application-declaration filed under sections 6(a), 7, 9(a), 10 and 12(d) of the Act and rules 42, 44, 62 and 65 under the Act.

By order dated December 26, 2000 (HCAR No. 27317), EMI was authorized, among other things, from time to time through December 31, 2003, to issue and sell up to (i) $540 million of EMI's first mortgage bonds (“Bonds”) and/or EMI's debentures (“Debentures”); (ii) $50 million of preferred securities of a subsidiary of EMI (“Entity Interests”) and/or EMI's preferred stock (“Preferred Stock”); (iii) $46 million of tax-exempt bonds (“Tax-Exempt Bonds”) to be issued by the appropriate governmental authority, including the pledge of bonds up to $52 million as security; and (iv) $100 million of municipal securities (“Municipal Securities”) issued by the appropriate municipal entity.

Fees, commissions and expenses of the underwriters to be incurred in connection with the Bonds, Debentures, Preferred Stock and Tax-Exempt Bonds were estimated not to exceed 2% of the principal amount to be sold, and in the case of Entity Interests and Debentures issued under a subordinated debenture indenture, 3.25% of the principal amount to be sold.

EMI states that current market conditions require an increase above the 2% of principal amount of underwriters' fees, commissions and expenses to effect sales into the retail securities markets. EMI now requests authority for fees, commissions and expenses of the underwriters to be incurred in connection with the issuance and sale of Bonds, Debentures, Debentures issued under a subordinated debenture indenture, Preferred Stock, Entity Interests, Tax-Exempt Bonds and Municipal Securities not to exceed the lesser of 3.25% of the principal amount, respectively, to be sold or those generally paid at the time of pricing for sales of first mortgage bonds, debentures, debentures issued under a subordinated debenture indenture, preferred stock, subsidiary interests, tax-exempt bonds or municipal securities, respectively, having the same maturity, issued by companies of comparable credit quality and having similar terms, conditions and features.

For the Commission, by the Division of Investment Management, under delegated authority.
Margaret H. McFarland,
Deputy Secretary.

[FR Doc. 02-22913 Filed 9-9-02; 8:45 am]

BILLING CODE 8010-01-P